FEDERAL COMMUNICATIONS COMMISSION

47 CFR Part 73

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and the Amendment of the Commission's Rules to permit FM Channel and Class Modifications [Upgrades] by Applications, 8 FCC Rcd 4735 (1993).

DATES: Effective June 24, 2002.

FOR FURTHER INFORMATION CONTACT: Kathleen Scheuerle, Media Bureau, (202) 418-2180.

SUPPLEMENTARY INFORMATION: This is a summary of the Commission's Report and Order, adopted May 29, 2002, and released June 7, 2002. The full text of this Commission decision is available for inspection and copying during regular business hours at the FCC Reference Information Center, Portals II, 445 12th Street, SW., Room CY-A257, Washington, DC, 20554. This document may also be purchased from the Commission's duplicating contractor, Qualex International, Portals II, 445 12th Street, SW., Room CY-B402, Washington, DC. 20554, telephone 202-863-2893, facsimile 202-863-2898, or via e-mail qualexint@aol.com.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Alabama, is amended by removing Channel 262C and adding Channel 262C1 at Tuscumbia.

3. Section 73.202(b), the Table of FM Allotments under Iowa, is amended by removing Channel 277C1 and adding Channel 277C0 at Pella.

4. Section 73.202(b), the Table of FM Allotments under Missouri, is amended by removing Channel 282A and adding Channel 282C3 at Vandalia.

5. Section 73.202(b), the Table of FM Allotments under South Carolina, is amended by removing Channel 253A and adding Channel 253C3 at Pawley's Island.

6. Section 73.202(b), the Table of FM Allotments under Texas, is amended by removing Channel 240A and adding Channel 241C3 at Dalhart and by removing Channel 286a and adding Channel 286C2 at Seadrift.

7. Section 73.202(b), the Table of FM Allotments under Washington, is amended by removing Channel 256C2 and adding Channel 256C1 at Walla Walla.

8. Section 73.202(b), the Table of FM Allotments under Wyoming, is amended by removing Channel 287C2 and adding Channel 287C1 at Diamondville.

Federal Communications Commission.
John A. Karousos,
Assistant Chief, Audio Division, Office of Broadcast License Policy, Media Bureau.

[FR Doc. 02-15671 Filed 6-21-02; 8:45 am]

BILLING CODE 6712-01-P